INTERNATIONAL TRADE COMMISSION

[USITC SE-13-033]

Sunshine Act Meeting

AGENCY HOLDING THE MEETING: United States International Trade Commission.

TIME AND DATE: December 10, 2013 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. No. 731-TA-1114 (Review)(Steel Nails from China). The Commission is currently scheduled to complete and file its determinations and views on or before December 19, 2013.

5. Outstanding action jackets: none

In accordance with Commission policy, subject matter listed above, not disposed of at the scheduled meeting, may be carried over to the agenda of the following meeting.

By order of the Commission.
Dated: December 3, 2013.
Lisa R. Barton,
Acting Secretary to the Commission.

[FR Doc. 2013-29205 Filed 12-3-13; 4:15 pm]

BILLING CODE 7020-02-P